DEPARTMENT OF TRANSPORTATION

Office of the Secretary

Notice of Applications for Certificates of Public Convenience and Necessity and Foreign Air Carrier Permits Filed Under Subpart B (Formerly Subpart Q) During the Week Ending September 10, 2004

The following Applications for Certificates of Public Convenience and Necessity and Foreign Air Carrier Permits were filed under Subpart B (formerly Subpart Q) of the Department of Transportation's Procedural Regulations. (See 14 CFR 301.201 et seq.) The due date for Answers, Conforming Applications, or Motions to Modify Scope are set forth below for each application. Following the Answer period DOT may process the application by expedited procedures. Such procedures may consist of the adoption of a show-cause order, a tentative order, or in appropriate cases a final order without further proceedings.

Docket Number: OST-2004-13937.

Date Filed: September 10, 2004.

Due Date for Answers, Conforming Applications, or Motion to Modify Scope: October 1, 2004.

Description: Application of Cool Tours, Inc. d/b/a San Juan Aviation, requesting a waiver from the revocation for dormancy to conduct scheduled passenger operations as a commuter air carrier.

Docket Number: OST-2004-19109.

Date Filed: September 10, 2004.

Due Date for Answers, Conforming Applications, or Motion to Modify Scope: October 1, 2004.

Description: Application of Casino Airlines, Inc. dba City Airlines requesting authority to engage in scheduled passenger operations as a commuter air carrier and to operate scheduled daily flights between Dallas, TX (Love Field—DAL) to Lake Charles Regional, LA (Lake Charles Regional—LCH) flying two (2) BAe Jetstream 100 aircraft.

Andrea M. Jenkins,
Program Manager, Docket Operations, Federal Register Liaison.

[FR Doc. 04-21244 Filed 9-21-04; 8:45 am]

BILLING CODE 4910-62-P